DEPARTMENT OF ENERGY

Federal Energy Regulatory Commission

[ Docket No. RP04-109-001]

Eastern Shore Natural Gas Company; Notice of Compliance Filing

February 3, 2004.

Take notice that on January 30, 2004, Eastern Shore Natural Gas Company (Eastern Shore) tendered for filing as part of its FERC Gas Tariff, Second Revised Volume No. 1, the following revised tariff sheets proposed to be effective January 16, 2004 :

Third Revised Tariff Sheet No. 217

Third Revised Tariff Sheet No. 221

Eastern Shore states that the purpose of this filing is to comply with the Commission's Order issued on January 15, 2004 in this proceeding. The Commission directed Eastern Shore to make certain clarifications regarding its tariff language within fifteen days of its order.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the e-Filing link.

Magalie R. Salas,
Secretary.

[FR Doc. E4-226 Filed 2-9-04; 8:45 am]

BILLING CODE 6717-01-P